NATIONAL AERONAUTICS AND SPACE ADMINISTRATION

[NOTICE: (23-127)]

National Environmental Policy Act; Agency Master Plan

AGENCY: National Aeronautics and Space Administration (NASA).

ACTION: Notice of availability of the Agency Master Plan Final Programmatic Environmental Assessment (PEA) and the resulting Finding of No Significant Impact (FONSI).

SUMMARY: NASA announces its decision to implement the Agency Master Plan. NASA's decision is supported by the detailed analysis found in the Final PEA, as summarized in the agency's FONSI, the availability of which is located under ADDRESSES.

ADDRESSES: The complete text of the PEA and the FONSI for the Agency Master Plan are at https://www.nasa.gov/emd/nepa-public-reviews/.

FOR FURTHER INFORMATION CONTACT: Ms. Tina Norwood, NASA NEPA Manager, Environmental Management Division, NASA Headquarters Office of Strategic Infrastructure 300 E. Street SW, Washington DC 20546, 202-358-7324 or Email: tinanorwood@nasa.gov.

SUPPLEMENTARY INFORMATION: As early as 2011, NASA began integrating and optimizing operations across centers and mission support facilities (i.e., technical capability facilities) to reduce costs and revitalize the capabilities required to enable NASA's portfolio of missions (NASA 2011, 26). In 2015, the Executive Office of the President distributed Management Procedures Memorandum No. 2015-01, tasking federal agencies to “move aggressively to dispose of surplus properties held by the federal government, make more efficient use of the government's real property assets, and reduce the total square footage of their domestic office and warehouse inventory relative to an established baseline.” This directive set agency planning goals that were disseminated to centers.

To better achieve its infrastructure reduction targets, NASA proposes to implement a centralized and standardized Agency Master Plan administrative process. This Proposed Action will help ensure program management and planning efforts are aligned across all mission areas and geographically separate centers and facilities, as well as implement a consistent and cost-effective set of processes, systems, and tools for enterprise-wide master planning. The Proposed Action is supported by NASA's 2018 Strategic Plan, which recommended NASA develop an Agency Master Plan that identifies agency facility priorities over a 20-year timeframe (NASA 2018a). The implementation of an Agency Master Plan provides a framework upon which each NASA center is to develop its own Center Master Plan (CMP) tied to Agency-wide requirements, thereby allowing the agency to meet its overall infrastructure management targets and more efficiently (i.e., cost-effectively) achieve its mission as well as sustainment and infrastructure reduction goals.

Joel Carney,
Assistant Administrator, Office of Strategic Infrastructure.

[FR Doc. 2023-28780 Filed 12-28-23; 8:45 am]

BILLING CODE 7510-13-P